NATIONAL SCIENCE FOUNDATION

Proposal Review Panel for Materials Research; Notice of Meeting

In accordance with the Federal Advisory Committee Act (Pub. L. 92-463, as amended), the National Science Foundation (NSF) announces the following meeting:

Name And Committee Code: Proposal Review Panel for Materials Research—Site visit review of the National High Magnetic Field Laboratory (NHMFL) at Florida State University, Tallahassee, FL (#1203).

Date and Time: September 4, 2019; 1:15 p.m.-6:00 p.m.

September 5, 2019; 8:15 a.m.-5:00 p.m.

September 6, 2019; 8:45 a.m.-3:00 p.m.

Place: NHMFL—Florida State University, 1800 E Paul Dirac Dr., Tallahassee, FL 32310.

Type of Meeting: Part-Open.

Contact Person: Dr. Leonard Spinu, Program Director, Division of Materials Research, National Science Foundation, 2415 Eisenhower Avenue, Alexandria, VA 22314; Telephone: (703) 292-2665.

Purpose Of Meeting: Site visit to provide advice and recommendations concerning further support of the NHMFL.

Agenda

Wednesday, September 4, 2019

1:15 p.m.-4:10 p.m. Open—Review of the NHMFL

4:10 p.m.-4:40 p.m. Closed—Executive Session

4:40 p.m.-6:00 p.m. Open—Review of the NHMFL

Thursday, September 5, 2019

8:15 a.m.-9:00 a.m. Open—Review of the NHMFL

9:00 a.m.-5:00 p.m. Closed—Executive Session

Friday, September 6, 2019

8:45 a.m.-11:30 a.m. Closed—Executive Session

11:30 a.m.-12:00 p.m. Open—Review of the NHMFL

12:00 p.m.-2:00 p.m. Closed—Executive Session

2:00 p.m.-3:00 p.m. Open—Review of the NHMFL

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: August 8, 2019.
Crystal Robinson,
Committee Management Officer.

[FR Doc. 2019-17265 Filed 8-12-19; 8:45 am]

BILLING CODE 7555-01-P